DEPARTMENT OF COMMERCE

National Oceanic and Atmospheric Administration

RIN 0648-XT64

Notice of Public Review and Comment Period on NOAA's Next Generation Strategic Plan (NGSP)

AGENCY: Office of Program Planning & Integration, National Oceanic and Atmospheric Administration.

ACTION: Notice; request for comments.

SUMMARY: NOAA's Next Generation Strategic Plan (Plan) sets the course for the agency's mission, a vision of the future, the societal outcomes that NOAA aims to help realize, and, consequently, the actions that the agency must take. The draft Plan lays the foundation for NOAA to play a leading Federal role in responding to the Nation's most urgent challenges, ranging from climate change, severe weather, and natural or human-induced disasters to declining biodiversity and threatened or degraded ocean and coastal resources. NOAA's draft strategy emerged from extensive consultations across the Nation with staff and stakeholders—the extended community of partners and collaborators in the public, private, and academic sectors who have a stake in NOAA's mission. During more than 20 regional stakeholder forums, a national forum in Washington, DC, and through web-based engagement and idea generation, NOAA gathered input that helped assess the greatest challenges facing our Nation and the highest priority goals for NOAA. NOAA invites comments on the Plan on its: mission statement; vision of the future; long-term strategic goals and five-year objectives; enterprise components and five-year objectives; and strategic partnerships.

DATES: The public comment period is open from June 29, 2010, to August 10, 2010. Comments must be submitted by COB on August 10, 2010.

ADDRESSES: Submit comments via the following methods—

• NGSP Website (www.noaa.gov/ngsp).

• Mail: National Oceanic and Atmospheric Administration, Office of Program Planning and Integration, 1315 East West Highway, Room 15749, Silver Spring, Maryland 20910.

• Email comments to strategic.planning@noaa.gov.

FOR FURTHER INFORMATION CONTACT: Marla Trollan, NGSP Communications Director, at marla.trollan@noaa.gov or (302) 270-6288.

SUPPLEMENTARY INFORMATION: You may view the Plan in its entirety at: www.noaa.gov/ngsp.

I. Summary of the Plan

Through its longstanding mission of science, service, and stewardship, NOAA generates tremendous value for the Nation — and the world — by advancing our understanding of and ability to anticipate changes in the Earth's environment, by improving society's ability to make scientifically-informed decisions, and by conserving and managing ocean and coastal resources. NOAA's mission of science, service, and stewardship is to understand and anticipate changes in climate, weather, oceans, and coasts, share knowledge and information with others, and conserve and manage marine resources.

NOAA's mission is central to many of today's greatest challenges. Climate change. Severe weather. Natural and human-induced disasters. Declining biodiversity. Threatened or degraded ocean and coastal resources. These challenges convey a common message: Human health, prosperity, and well-being depend upon the health and resilience of natural ecosystems.

NOAA's vision of the future is one of healthy ecosystems, communities, and economies that are resilient in the face of change. Resilient ecosystems, communities, and economies can maintain and improve their health and vitality over time by anticipating, absorbing, and diffusing change—whether sudden or prolonged. This vision of resilience will guide NOAA and its partners in our collective effort to reduce the vulnerability of communities and ecological systems in the short term, while helping society avoid or adapt to long-term environmental, social, and economic changes. To this end, NOAA will focus on four long-term outcomes within its primary mission domains.

NOAA's Long-Term Goals:

• Climate Adaptation and Mitigation: An informed society anticipating and responding to climate and its impacts;

• Weather-Ready Nation: Society is prepared for and responds to weather-related events;

• Healthy Oceans: Vibrant marine fisheries, habitats, and biodiversity sustained within healthy and productive ecosystems; and

• Resilient Coastal Communities and Economies: Coastal and Great Lakes communities are environmentally and economically sustainable.

NOAA cannot achieve these goals on its own, but neither can society achieve them without NOAA. This Plan describes the long-term outcomes that NOAA will contribute to in each of these areas, along with the specific objectives that NOAA will pursue over the next five years. Over the next five years, NOAA will direct its collective mission capabilities toward objectives for society in each of its four interrelated and mutually supportive long-term goals:

• Long-term goal: Climate Adaptation and Mitigation - An informed society anticipating and responding to climate and its impacts.

• Objective: Improved scientific understanding of the changing climate system and its impacts.

• Objective: Integrated assessments of current and future states of the climate system that identify potential impacts and inform science, services, and decisions.

• Objective: Mitigation and adaptation efforts supported by sustained, reliable, and timely climate services.

• Objective: A climate-literate public that understands its vulnerabilities to a changing climate and makes informed decisions.

• Long-term goal: Weather-Ready Nation - Society is prepared for and responds to weather-related events.

• Objective: Reduced loss of life, property, and disruption from high-impact events.

• Objective: Improved water resource management.

• Objective: Improved transportation efficiency and safety.

• Objective: Healthy people and communities through improved air and water quality.

• Objective: Secure, reliable infrastructure for energy, communications, and agriculture.

• Long-term goal: Healthy Oceans - Vibrant marine fisheries, habitats, and biodiversity sustained within healthy and productive ecosystems.

• Objective: Improved understanding of ecosystems to inform resource management decisions.

• Objective: Recovered, rebuilt, and sustained living marine resources.

• Objective: Healthy habitats that sustain resilient and thriving marine resources and communities.

• Objective: Safe and sustainable seafood for healthy populations.

• Long-term goal: Resilient Coastal Communities and Economies - Coastal and Great Lakes communities that are environmentally and economically sustainable.

• Objective: Resilient coastal communities that can adapt to the impacts of hazards and climate change.

• Objective: Comprehensive ocean and coastal planning and management.

• Objective: Safe, efficient and environmentally sound marine transportation.

• Objective: Improved coastal water quality supporting human health and coastal ecosystem services.

• Objective: Safe, environmentally sound Arctic access and resource management.

As a whole, NOAA's capacity to achieve these goals and objectives will depend upon the continued strengthening and integration of NOAA's enterprise-wide science and technology, stronger partnerships and stakeholder engagement, and effective organizational and administrative functions. Over the next five years, NOAA will also direct its capabilities toward objectives for society in each of these components of its enterprise.

• NOAA's Science & Technology Enterprise:

• Objective: A holistic understanding of the Earth system through research.

• Objective: Accurate and reliable data from sustained and integrated earth observing systems.

• Objective: An integrated environmental modeling system.

• NOAA's Engagement Enterprise:

• Objective: An engaged and educated public with an improved capacity to make scientifically informed environmental decisions.

• Objective: Integrated services meeting the evolving demands of regional stakeholders.

• Objective: Full and effective use of international partnerships and policy leadership to achieve NOAA's mission objectives.

• NOAA's Organization & Administration Enterprise:

• Objective: Diverse and constantly evolving capabilities in NOAA's workforce.

• Objective: A modern information technology infrastructure for a scientific enterprise.

• Objective: Sound, life-cycle management of capital investments.

II. Request for Comments

NOAA invites comments on its: mission statement; vision of the future; long-term strategic goals and five-year objectives; enterprise components and five-year objectives; and strategic partnerships. NOAA prefers that you submit comments online via the NGSP website, www.noaa.gov/ngsp, where you may post general comments on the plan, comment on any particular section, as well as vote on the comments posted by others. This method will help NOAA understand which aspects of the plan deserve the most attention in developing a final version. You may also mail comments to: National Oceanic and Atmospheric Administration, Office of Program Planning and Integration, 1315 East West Highway, Room 15749, Silver Spring, Maryland 20910 or email comments to strategic.planning@noaa.gov.

Dated: June 24, 2010
Susan A. Kennedy,
Deputy Director of Strategic Planning, Office of Program Planning and Integration, National Oceanic and Atmospheric Administration.

[FR Doc. 2010-15768 Filed 6-28-10; 8:45 am]

BILLING CODE 3510-NW-S